Title 3—

The President

Proclamation 9166 of September 12, 2014

National Hispanic Heritage Month, 2014

By the President of the United States of America

A Proclamation

Nearly 50 years after the United States first observed what was then National Hispanic Heritage Week, Hispanics represent a vibrant and thriving part of our diverse Nation. Their histories and cultures stretch across centuries, and the contributions of those who come to our shores today in search of their dreams continue to add new chapters in our national story. This month, we honor the rich heritage of the Hispanic community and celebrate its countless achievements.

This month's theme, “Hispanics: A legacy of history, a present of action and a future of success,” reminds us of all the ways Hispanics have enriched our Union and shaped our character. From those with roots that trace back generations to those who have just set out in pursuit of the promise of America, they have come to represent the spirit of our Nation: that with hard work, you can build a better life for yourself and a better future for your children. Hispanics have served honorably in our Armed Forces, defending the values we hold dear. They have transformed industries with new, innovative ideas. And they have led and inspired movements that have made our Nation more equal and more just.

In these accomplishments, we recognize that when we lift up the Hispanic community, we strengthen our Nation; when we create more ladders of opportunity, we provide the chance for all Americans to reach their greatest potential. My Administration is committed to supporting and fighting for policies that help Hispanics succeed. We are investing in programs that better prepare students and workers for today's economy, continuing to address disparities in health care, and pushing initiatives that grow our middle class.

Reforming our immigration system remains crucial for our economic future. When workers educated in America are unable to stay and innovate here, we are deprived of their full contributions, and when immigrants have to labor in the shadows, they often earn unfair wages and their families and our economy suffer. That is why I continue to call on the Congress to enact comprehensive immigration reform, and why I am determined to address our broken immigration system through executive action in a way that is sustainable and effective, and within the confines of the law.

America has always drawn its strength from the contributions of a diverse people. Throughout our Nation, Hispanics are advancing our economy, improving our communities, and bettering our country. During National Hispanic Heritage Month, let us renew our commitment to ensuring ours remains a society where the talents and potential of all its members can be fully realized.

To honor the achievements of Hispanics in America, the Congress by Public Law 100-402, as amended, has authorized and requested the President to issue annually a proclamation designating September 15 through October 15 as “National Hispanic Heritage Month.”

NOW, THEREFORE, I, BARACK OBAMA, President of the United States of America, do hereby proclaim September 15 through October 15, 2014, as National Hispanic Heritage Month. I call upon public officials, educators, librarians, and all Americans to observe this month with appropriate ceremonies, activities, and programs.

IN WITNESS WHEREOF, I have hereunto set my hand this twelfth day of September, in the year of our Lord two thousand fourteen, and of the Independence of the United States of America the two hundred and thirty-ninth.

[FR Doc. 2014-22342

Filed 9-16-14; 11:15 am]

Billing code 3295-F4